ENVIRONMENTAL PROTECTION AGENCY

[OPP-2002-0102; FRL-7182-2]

Issuance of Experimental Use Permits

AGENCY: Environmental Protection Agency (EPA).

ACTION: Notice.

SUMMARY: EPA has granted experimental use permits (EUPs) to the following pesticide applicants. An EUP permits use of a pesticide for experimental or research purposes only in accordance with the limitations in the permit.

FOR FURTHER INFORMATION CONTACT: By mail: Biopesticides and Pollution Prevention Division (7511C), Office of Pesticide Programs, Environmental Protection Agency, 1200 Pennsylvania Ave., NW., Washington, DC 20460.

In person or by telephone: Contact the designated person at the following address at the office location, telephone number, or e-mail address cited in each EUP: 1921 Jefferson Davis Hwy., Arlington, VA.

SUPPLEMENTARY INFORMATION:

I. General Information

A. Does this Action Apply to Me?

This action is directed to the public in general. Although this action may be of particular interest to those persons who conduct or sponsor research on pesticides, the Agency has not attempted to describe all the specific entities that may be affected by this action. If you have any questions regarding the information in this action, consult the designated contact person listed for the individual EUP.

B. How Can I Get Additional Information, Including Copies of this Document and Other Related Documents?

You may obtain electronic copies of this document from the EPA Internet home page at http://www.epa.gov/. On the Home Page select “Laws and Regulations,” “Regulations and Proposed Rules,” and then look up the entry for this document under the “Federal Register—Environmental Documents.” You can also go directly to the Federal Register listings at http://www.epa.gov/fedrgstr/.

II. EUPs

EPA has issued the following EUPs:

68467-EUP-4, 29964-EUP-2, and 524-EUP-93. Issuance, Amendment, and Amendment/Extension. Mycogen Seeds c/o Dow AgroSciences LLC, 9330 Zionsville Road, Indianapolis, IN 46268, Pioneer Hi-Bred International, Inc., 7250 NW 62nd Avenue, Johnston, IA 5013, and Monsanto Company, 700 Chesterfield Parkway North, St. Louis, MO 63198. These EUPs allow the use of the plant-incorporated protectants Bacillus thuringiensis Cry1F protein and the genetic material necessary for its production (from the insert of plasmid PHP 12537) in corn (moCry1F corn) and Bacillus thuringiensis Cry3Bb protein and the genetic material necessary for its production (vector ZMIR13L) in corn. The EUP issued to Mycogen Seeds c/o Dow AgroSciences allowed the planting of 354 acres of field corn to conduct insect resistance management, agronomic observation, breeding and observation nursery, efficacy, hybrid production plot, and herbicide tolerance study trials. The Mycogen Seeds' program is authorized in the States of California, Colorado, Hawaii, Illinois, Indiana, Iowa, Kansas, Kentucky, Michigan, Minnesota, Mississippi, Missouri, Nebraska, North Dakota, Ohio, South Dakota, Wisconsin, and the Commonwealth of Puerto Rico.

The EUP issued to Pioneer Hi-Bred allowed the planting of 140 acres of field corn to conduct insect resistance management, agronomic observation, breeding and observation nursery, demonstration, efficacy, hybrid production plot, non-target organism, herbicide residue, and herbicide tolerance trials as well as grain and plant tissue production for feeding trials and regulatory studies. The Pioneer Hi-Bred program is authorized in the States of California, Georgia, Hawaii, Illinois, Indiana, Iowa, Kansas, Michigan, Minnesota, Missouri, Nebraska, North Dakota, Ohio, Pennsylvania, Tennessee, Texas, Wisconsin, and the Commonwealth of Puerto Rico.

The EUP amendment for Monsanto lifted the crop destruct requirement of the Agency's April 27, 2001 4,000 acre EUP approval. The EUP amendment/extension for Monsanto allowed the planting of 9,400 acres of field corn to conduct insect resistance management, breeding and observation nursery, efficacy, non-target organism and benefit, seed treatment, inbred seed increase production for further testing and product development, and line per se and hybrid yield trials, as well as grain and plant tissue production for regulatory studies. The Monsanto program is authorized in the States of Alabama, Arkansas, California, Colorado, Delaware, Florida, Georgia, Hawaii, Idaho, Illinois, Indiana, Iowa, Kansas, Kentucky, Louisiana, Maryland, Michigan, Minnesota, Mississippi, Missouri, Montana, Nebraska, New Mexico, New York, North Carolina, North Dakota, Ohio, Oklahoma, Pennsylvania, South Dakota, Tennessee, Texas, Utah, Virginia, Wisconsin, and the Commonwealth of Puerto Rico.

These EUPs are effective from April 5, 2002 to April 30, 2002 for Monsanto's amendment lifting the crop destruct provision for the 4,000 acre EUP, from April 10, 2002 to February 28, 2003 for Monsanto's 9,400 acre EUP amendment/extension, April 10, 2002 to March 31, 2003 for Mycogen Seeds, and April 10, 2002 to April 30, 2003 for Pioneer Hi-Bred. Tolerance exemptions have been established for residues of the active ingredients in or on field corn, sweet corn, or popcorn in 40 CFR 180.1214 and 180.1217. The Pioneer Hi-Bred and Mycogen Seeds moCry1F EUPs notice of receipt elicited a comment concerning issues related to the testing of plant-incorporated protectants not covered by a tolerance exemption. The corn grown under their EUPs is covered by a tolerance exemption. The 9,400 acre Monsanto EUP notice of receipt elicited a number of comments from farmers, seed dealers, and academicians supporting approval of the permit extension/amendment.

Further information regarding these EUPs are found with the Federal Register notices of receipt, docket numbers OPP-50875B and OPP-50875C (Monsanto) and OPP-50881 (Mycogen Seeds and Pioneer Hi-Bred). (Mike Mendelsohn; Rm. 910W16, Crystal Mall #2; telephone number: (703) 308-8715; e-mail address: mendelsohn.mike@epa.gov).

Persons wishing to review these EUPs are referred to the designated contact person. Inquiries concerning these permits should be directed to the persons cited above. It is suggested that interested persons call before visiting the EPA office, so that the appropriate file may be made available for inspection purposes from 8 a.m. to 4 p.m., Monday through Friday, excluding legal holidays.

Authority: 7 U.S.C. 136.

List of Subjects

Environmental protection, Experimental use permits.

Dated: June 14, 2002.
Janet L. Andersen,
Director, Biopesticides and Pollution Prevention Division, Office of Pesticide Programs.

[FR Doc. 02-16137 Filed 6-25-02; 8:45 am]

BILLING CODE 6560-50-S